DEPARTMENT OF TRANSPORTATION

Federal Railroad Administration

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking an extension of the following currently approved information collection activities. These information collection activities received a six-month emergency approval from OMB. FRA seeks this extension while it works on developing a proposed rule related to the same topic of inappropriate cell phone use and other electronic/electrical devices by railroad employees while on-duty. Before submitting these information collection requirements for clearance by the Office of Management and Budget (OMB), FRA is soliciting public comment on specific aspects of the activities identified below.

DATES: Comments must be received no later than January 26, 2009.

ADDRESSES: Submit written comments on any or all of the following proposed activities by mail to either: Mr. Robert Brogan, Office of Safety, Planning and Evaluation Division, RRS-21, Federal Railroad Administration, 1200 New Jersey Ave., SE., Mail Stop 17, Washington, DC 20590, or Ms. Nakia Jackson, Office of Information Technology, RAD-20, Federal Railroad Administration, 1200 New Jersey Ave., SE., Mail Stop 35, Washington, DC 20590. Commenters requesting FRA to acknowledge receipt of their respective comments must include a self-addressed stamped postcard stating, “Comments on OMB control number 2130-0579.” Alternatively, comments may be transmitted via facsimile to (202) 493-6216 or (202) 493-6170, or via e-mail to Mr. Brogan at robert.brogan@dot.gov, or to Ms. Jackson at nakia.jackson@dot.gov. Please refer to the assigned OMB control number in any correspondence submitted. FRA will summarize comments received in response to this notice in a subsequent notice and include them in its information collection submission to OMB for approval.

FOR FURTHER INFORMATION CONTACT: Mr. Robert Brogan, Office of Safety, Planning and Evaluation Division, RRS-21, Federal Railroad Administration, 1200 New Jersey Ave., SE., Mail Stop 17, Washington, DC 20590 (telephone: (202) 493-6292) or Ms. Nakia Jackson, Office of Information Technology, RAD-20, Federal Railroad Administration, 1200 New Jersey Ave., SE., Mail Stop 35, Washington, DC 20590 (telephone: (202) 493-6073). (These telephone numbers are not toll-free.)

SUPPLEMENTARY INFORMATION: The Paperwork Reduction Act of 1995 (PRA), Public Law 104-13, section 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

OMB Control Number: 2130-0579.

Title: FRA Emergency Order No. 26, Notice No. 1.

Abstract: Emergency Order No. 26—and its associated collection of information—is FRA's direct and proactive response to the September 12, 2008, Chatsworth, California, collision of a Union Pacific (UP) freight train and a Metrolink commuter train, which resulted in the deaths of 25 people and numerous injuries to train occupants, as well as to other train accidents/incidents involving cell phone use and use of electronic/electrical devices that have occurred throughout the country recently. The collection of information under Emergency Order No. 26 is aimed at ensuring that railroads revise their programs of operational tests and inspections, as necessary, to include the requirements of E.O. 26 and specifically include a minimum number of operational tests and inspections; and at ensuring railroads instruct each of their operating employees and supervisors of railroad operating employees concerning the requirements of E.O. 26 and implementing railroad rules and instructions. The collection of information under E.O. 26 also contains a provision that allows railroads to petition for relief from this Order by adopting other means of ensuring that railroad operating employees are not distracted from their duties by use of electronic or electrical devices or by implementing technology that will prevent inappropriate acts and omissions from resulting in injury to persons.

Form Number(s): N/A.

Affected Public: Businesses.

Respondent Universe: 718 railroads; 130,000 Railroad Employees.

Frequency of Submission: One-time; on occasion.

Reporting Burden:

Emergency order item No. 26 | Respondent universe | Total annual responses | Average time per response | Total annual burden hours
(1)—Revision of Railroad's Program of Operational Tests and Inspections Under 49 CFR 217 to Include Requirements of E.O. 26 | 718 Railroads 20 New Railroads | 718 amended programs 20 amended programs | 1 hour 1 hour | 718 20
(2) Employee Training in Requirements of E.O. 26 and Implementing Railroad Rules and Instructions | 130,000 RR Employees | 130,000 Trained Employees | 15 minutes | 32,500
(3) Petitions of Relief from E.O. 26 | 718 Railroads | Zero (0) Petitions | Zero (0) minutes/hours | Zero (0)

Total Responses: 130,738.

Total Annual Estimated Burden: 33,238 hours.

Status: Regular review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on November 19, 2008.
Kimberly Orben,
Director, Office of Financial Management, Federal Railroad Administration.

[FR Doc. E8-27908 Filed 11-24-08; 8:45 am]

BILLING CODE 4910-06-P